SMALL BUSINESS ADMINISTRATION

[Disaster Declaration #13523 and #13524]

South Carolina Disaster #SC-00021

AGENCY: U.S. Small Business Administration.

ACTION: Notice.

SUMMARY: This is a notice of an Administrative declaration of a disaster for the State of South Carolina dated 03/29/2013.

Incident: Windsor Green Condo Complex Fire.

Incident Period: 03/16/2013.

Effective Date: 03/29/2013.

Physical Loan Application Deadline Date: 05/28/2013.

Economic Injury (Eidl) Loan Application Deadline Date: 12/30/2013.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Horry.

Contiguous Counties:

South Carolina: Dillon, Georgetown, Marion.

North Carolina: Brunswick, Columbus, Robeson.

The Interest Rates are:

| Percent
For Physical Damage:
Homeowners With Credit Available Elsewhere Homeowners Without | 3.375
Credit Available Elsewhere Businesses With Credit Available | 1.688
Elsewhere Businesses Without Credit Available Elsewhere | 6.000
Non-Profit Organizations With Credit Available Elsewhere | 4.000
Non-Profit Organizations Without Credit Available Elsewhere | 2.875
For Economic Injury:
Businesses & Small Agricultural Cooperatives Without Credit Available Elsewhere Non-Profit Organizations Without | 4.000
Credit Available Elsewhere | 2.875

The number assigned to this disaster for physical damage is 13523 5 and for economic injury is 13524 0.

The States which received an EIDL Declaration # are South Carolina, North Carolina.

(Catalog of Federal Domestic Assistance Numbers 59002 and 59008)

Dated: March 29, 2013.
Karen G. Mills,
Administrator.

[FR Doc. 2013-07852 Filed 4-3-13; 8:45 am]

BILLING CODE 8025-01-P